DEPARTMENT OF HOMELAND SECURITY

Federal Emergency Management Agency

[Docket ID FEMA-2024-0002; Internal Agency Docket No. FEMA-B-2418]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Alabama: Walker | Unincorporated areas of Walker County (23-04-3571P) | Steve Miller, Chair, Walker County Commission, 1801 3rd Avenue South, Suite 113, Jasper, AL 35501 | Walker County Commission, 1801 3rd Avenue South, Suite 113, Jasper, AL 35501 | https://msc.fema.gov/portal/advanceSearch | Apr. 19, 2024 | 010301
Colorado:
Boulder | Unincorporated areas of Boulder County (22-08-0605P) | Claire Levy, Chair, Boulder County Board of Commissioners, P.O. Box 471, Boulder, CO 80306 | Boulder County Department of Public Works, 1739 Broadway, Suite 300, Boulder, CO 80306 | https://msc.fema.gov/portal/advanceSearch | Apr. 29, 2024 | 080023
Douglas | Town of Parker (23-08-0472P) | The Honorable Jeff Toborg, Mayor, Town of Parker, 20120 East Main Street, Parker, CO 80138 | Town Hall, 20120 East Main Street, Parker, CO 80138 | https://msc.fema.gov/portal/advanceSearch | May 10, 2024 | 080310
Florida:
Lake | City of Mascotte (24-04-0461P) | The Honorable Steven Sheffield, Mayor, City of Mascotte, 100 East Myers Boulevard, Mascotte, FL 34753 | City Hall, 100 East Myers Boulevard, Mascotte, FL 34753 | https://msc.fema.gov/portal/advanceSearch | May 3, 2024 | 120591
Lake | Unincorporated areas of Lake County (24-04-0461P) | Jennifer Barker, Lake County Manager, 315 West Main Street, Tavares, FL 32778 | Lake County Public Works Department, 323 North Sinclair Avenue, Tavares, FL 32778 | https://msc.fema.gov/portal/advanceSearch | May 3, 2024 | 120421
Monroe | City of Marathon (23-04-4681P) | The Honorable Robyn Still, Mayor, City of Marathon, 9805 Overseas Highway, Marathon, FL 33050 | City Hall, 9805 Overseas Highway, Marathon, FL 33050 | https://msc.fema.gov/portal/advanceSearch | May 31, 2024 | 120681
Osceola | Unincorporated areas of Osceola County (23-04-5105P) | Donald Fisher, Osceola County Manager, 1 Courthouse Square, Suite 4700, Kissimmee, FL 34741 | Osceola County Public Works Department, 1 Courthouse Square, Suite 3100, Kissimmee, FL 34741 | https://msc.fema.gov/portal/advanceSearch | Jun. 14, 2024 | 120189
Palm Beach | Town of Palm Beach (23-04-4383P) | Kirk Blouin, Manager, Town of Palm Beach, 360 South County Road, Palm Beach, FL 33480 | Building Department, 360 South County Road, Palm Beach, FL 33480 | https://msc.fema.gov/portal/advanceSearch | Jun. 17, 2024 | 120220
Palm Beach | Unincorporated areas of Palm Beach County (23-04-3795P) | Verdenia C. Baker, Palm Beach County Administrator, 301 North Olive Avenue, Suite 1101, West Palm Beach, FL 33401 | Palm Beach County Building Division, 2300 North Jog Road, West Palm Beach, FL 33411 | https://msc.fema.gov/portal/advanceSearch | Jun. 10, 2024 | 120192
Palm Beach | Unincorporated areas of Palm Beach County (23-04-4383P) | Verdenia C. Baker, Palm Beach County Administrator, 301 North Olive Avenue, Suite 1101, West Palm Beach, FL 33401 | Palm Beach County Building Division, 2300 North Jog Road, West Palm Beach, FL 33411 | https://msc.fema.gov/portal/advanceSearch | Jun. 17, 2024 | 120192
Polk | Unincorporated areas of Polk County (23-04-5421P) | Bill Beasley, Polk County Manager, 330 West Church Street, Bartow, FL 33831 | Polk County Land Development Division, 330 West Church Street, Bartow, FL 33831 | https://msc.fema.gov/portal/advanceSearch | Jun. 13, 2024 | 120261
Polk | Unincorporated areas of Polk County (23-04-5503P) | Bill Beasley, Polk County Manager, 330 West Church Street, Bartow, FL 33831 | Polk County Land Development Division, 330 West Church Street, Bartow, FL 33831 | https://msc.fema.gov/portal/advanceSearch | May 16, 2024 | 120261
Georgia: Gwinnett | City of Grayson (23-04-5076P) | The Honorable Allison Wilkerson, Mayor, City of Grayson, 475 Grayson Parkway, Grayson, GA 30017 | City Hall, 475 Grayson Parkway, Grayson, GA 30017 | https://msc.fema.gov/portal/advanceSearch | May 3, 2024 | 130325
Nevada:
Douglas | Unincorporated areas of Douglas County (23-09-0124P) | Mark Gardner, Chair, Douglas County Board of Commissioners, 1594 Esmeralda Avenue, Minden, NV 89423 | Douglas County Administration, 1594 Esmeralda Avenue, Minden, NV 89423 | https://msc.fema.gov/portal/advanceSearch | May 6, 2024 | 320008
Independent City | City of Carson City (23-09-0124P) | The Honorable Lori Bagwell, Mayor, City of Carson City, 201 North Carson Street, Carson City, NV 89701 | City Hall, 201 North Carson Street, Carson City, NV 89701 | https://msc.fema.gov/portal/advanceSearch | May 6, 2024 | 320001
Oregon:
Clackamas | City of Canby (23-10-0589P) | The Honorable Brian Hodson, Mayor, City of Canby, P.O. Box 930, Canby, OR 97013 | Public Works Department, 1470 Northeast Territorial Road, Canby, OR 97013 | https://msc.fema.gov/portal/advanceSearch | May 2, 2024 | 410014
Clackamas | Unincorporated areas of Clackamas County (23-10-0589P) | Gary Schmidt, Clackamas County Administrator, 2051 Kaen Road, Oregon City, OR 97045 | Clackamas County Planning and Zoning Division, 150 Beavercreek Road, Oregon City, OR 97045 | https://msc.fema.gov/portal/advanceSearch | May 2, 2024 | 415588
Pennsylvania: Monroe | Township of Pocono (24-03-0116P) | Richard Wielebinski, President, Township of Pocono Board of Commissioners, 112 Township Drive, Tannersville, PA 18372 | Township Hall, 112 Township Drive, Tannersville, PA 18372 | https://msc.fema.gov/portal/advanceSearch | Jun. 10, 2024 | 421892
South Dakota:
Minnehaha | City of Sioux Falls (23-08-0268P) | The Honorable Paul TenHaken, Mayor, City of Sioux Falls, 224 West 9th Street, Sioux Falls, SD 57104 | City Hall, 231 North Dakota Avenue, Sioux Falls, SD 57104 | https://msc.fema.gov/portal/advanceSearch | May 3, 2024 | 460060
Minnehaha | Unincorporated areas of Minnehaha County (23-08-0268P) | Jean Bender, Chair, Minnehaha County Board of Commissioners, 415 North Dakota Avenue, Sioux Falls, SD 57104 | Minnehaha County Department of Planning and Zoning, 415 North Dakota Avenue, Sioux Falls, SD 57104 | https://msc.fema.gov/portal/advanceSearch | May 3, 2024 | 460057
Texas:
Collin | City of McKinney (23-06-2261P) | The Honorable George Fuller, Mayor, City of McKinney, P.O. Box 517, McKinney, TX 75070 | City Hall, 221 North Tennessee Street, McKinney, TX 75069 | https://msc.fema.gov/portal/advanceSearch | May 20, 2024 | 480135
Collin | Unincorporated areas of Collin County (23-06-1047P) | The Honorable Chris Hill, Collin County Judge, 2300 Bloomdale Road, Suite 4192, McKinney, TX 75071 | Collin County Engineering Department, 4690 Community Avenue, Suite 200, McKinney, TX 75071 | https://msc.fema.gov/portal/advanceSearch | May 6, 2024 | 480130
Denton | City of Fort Worth (23-06-1671P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Jun. 10, 2024 | 480596
Denton | Town of Bartonville (23-06-1473P) | The Honorable Jaclyn Carrington, Mayor, Town of Bartonville, 1941 East Jeter Road, Bartonville, TX 76226 | Town Hall, 1941 East Jeter Road, Bartonville, TX 76226 | https://msc.fema.gov/portal/advanceSearch | May 20, 2024 | 481501
Denton | Town of Flower Mound (23-06-1473P) | The Honorable Derek France, Mayor, Town of Flower Mound, 2121 Cross Timbers Road, Flower Mound, TX 75028 | Town Hall, 2121 Cross Timbers Road, Flower Mound, TX 75028 | https://msc.fema.gov/portal/advanceSearch | May 20, 2024 | 480777
Denton | Unincorporated areas of Denton County (23-06-1671P) | The Honorable Andy Eads, Denton County Judge, 1 Courthouse Drive, Suite 3100, Denton, TX 76208 | Denton County Development Services Department, 3900 Morse Street, Denton, TX 76208 | https://msc.fema.gov/portal/advanceSearch | Jun. 10, 2024 | 480774
Ellis | Unincorporated areas of Ellis County (23-06-1679P) | The Honorable Todd Little, Ellis County Judge, 101 West Main Street, Waxahachie, TX 75165 | Ellis County Courts and Administration, 109 South Jackson Street, Waxahachie, TX 75165 | https://msc.fema.gov/portal/advanceSearch | Jun. 3, 2024 | 480798
Hale | City of Plainview (23-06-0515P) | Jeffrey Snyder, City of Plainview Manager, 202 West 5th Street, Plainview, TX 79072 | City Hall, 202 West 5th Street, Plainview, TX 79072 | https://msc.fema.gov/portal/advanceSearch | Apr. 29, 2024 | 480275
Hale | Unincorporated areas of Hale County (23-06-0515P) | The Honorable David Mull, Hale County Judge, 500 Broadway, Plainview, TX 79072 | Hale County Courthouse, 500 Broadway, Plainview, TX 79072 | https://msc.fema.gov/portal/advanceSearch | Apr. 29, 2024 | 481223
Hunt | Unincorporated areas of Hunt County (23-06-2029P) | The Honorable Bobby W. Stovall, Hunt County Judge, 2507 Lee Street, 2nd Floor, Greenville, TX 75401 | Hunt County Courthouse, 2507 Lee Street, Greenville, TX 75401 | https://msc.fema.gov/portal/advanceSearch | May 3, 2024 | 480363
Parker | Town of Annetta North (23-06-1246P) | The Honorable Robert Schmidt, Mayor, Town of Annetta North, P.O. Box 1238, Aledo, TX 76008 | Parker County Permitting Department, 1114 Santa Fe Drive, Weatherford, TX 76086 | https://msc.fema.gov/portal/advanceSearch | May 13, 2024 | 481664
Parker | Unincorporated areas of Parker County (23-06-1246P) | The Honorable Pat Deen, Parker County Judge, 1 Courthouse Square, Weatherford, TX 76086 | Parker County Courthouse, 1 Courthouse Square, Weatherford, TX 76086 | https://msc.fema.gov/portal/advanceSearch | May 13, 2024 | 480520
Tarrant | City of Arlington (23-06-1085P) | The Honorable Jim Ross, Mayor, City of Arlington, P.O. Box 90231, Arlington, TX 76004 | Public Works Department, 101 West Abram Street, Arlington, TX 76010 | https://msc.fema.gov/portal/advanceSearch | Jun. 17, 2024 | 485454
Tarrant | City of Fort Worth (23-06-1412P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Jun. 17, 2024 | 480596
Tarrant | City of Fort Worth (23-06-1491P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Apr. 29, 2024 | 480596
Virginia: Loudoun | Unincorporated areas of Loudoun County (23-03-0567P) | Tim Hemstreet, Loudoun County Administrator, 1 Harrison Street Southeast, 5th Floor, Leesburg, VA 20175 | Loudoun County Government Center, 1 Harrison Street Southeast, 3rd Floor, MSC #60, Leesburg, VA 20175 | https://msc.fema.gov/portal/advanceSearch | Jun. 17, 2024 | 510090
Wyoming:
Teton | Town of Jackson (23-08-0655P) | The Honorable Hailey Morton Levinson, Mayor, Town of Jackson, P.O. Box 1687, Jackson, WY 83001 | Public Works Department, 450 West Snow King Avenue, Jackson, WY 83001 | https://msc.fema.gov/portal/advanceSearch | Jun. 6, 2024 | 560052
Teton | Unincorporated areas of Teton County (23-08-0655P) | The Honorable Luther Propst, Chair, Teton County Board of Commissioners, P.O. Box 3594, Jackson, WY 83001 | Teton County Public Works Department, 320 South King Street, Jackson, WY 83001 | https://msc.fema.gov/portal/advanceSearch | Jun. 6, 2024 | 560094

[FR Doc. 2024-05353 Filed 3-13-24; 8:45 am]

BILLING CODE 9110-12-P